ENVIRONMENTAL PROTECTION AGENCY

[OECA-2003-0139; FRL-7793-1]

Agency Information Collection Activities; Submission for OMB Review and Approval; Comment Request; NESHAP for Primary Aluminum Reduction Plants (Renewal), EPA ICR Number 1767.04, OMB Control Number 2060-0360

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on September 30, 2004. Under OMB regulations, the Agency may continue to conduct or sponsor the collection of information while this submission is pending at OMB. This ICR describes the nature of the information collection and its estimated burden and cost.

DATES: Additional comments may be submitted on or before August 30, 2004.

ADDRESSES: Submit your comments, referencing docket ID number OECA-2003-0139, to (1) EPA online using EDOCKET (our preferred method), by e-mail to docket.oeca@epa.gov, or by mail to: EPA Docket Center (EPA/DC), Environmental Protection Agency, Enforcement and Compliance Docket and Information Center, EPA West, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division (Mail Code 2223A), Office of Compliance, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On November 3, 2003 (68 FR 62289), EPA sought comments on this ICR pursuant to 5 CFR 1320.8(d). EPA received no comments.

EPA has established a public docket for this ICR under Docket ID Number OECA-2003-0139, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NESHAP for Primary Aluminum Reduction Plants (Renewal).

Abstract: The National Emission Standards for Hazardous Air Pollutants (NESHAP) for Primary Aluminum Reduction Plants (40 CFR part 63, subpart LL) was proposed on September 26, 1996 and promulgated on October 7, 1997. These standards apply to the owners or operators of new or existing potlines, paste production plants, or anode bake furnaces associated with primary aluminum production and located at a major source, and for each new pitch storage tank associated with a primary aluminum reduction plant.

In order to ensure compliance with the standards, adequate recordkeeping and reporting is necessary. This information enables the Agency to identify the sources subject to the standard; ensure initial compliance with emission limits, and verify continuous compliance with the standard.

This rule requires written notification when: an area source increases its emissions such that it becomes a major source; the initial startup is before the effective date of the standard; the effective date of a new or reconstructed source is after the effective date of the standard, and for which an application for approval of construction or reconstruction is not required; there is an intent to construct a new major source or reconstruct a major source after the effective date of the standard, and for which an application for approval or construction or reconstruction is required; an initial performance test occurs; an initial compliance status is submitted; an affected source intends to use an hydrogen fluoride (HF) continuous emission monitor; and owner or operator develops and submits an engineering plan to the applicable regulatory authority upon request. In addition, sources are required to: submit results of performance tests; provide semiannual reports unless quarterly reports are required as a result of excess emissions; develop a startup, shutdown, and malfunction plan; and maintain records for a period of five years following the date of each occurrence, measurement, maintenance, corrective action report, or record.

All reports are sent to the delegated state or local agency. In the event that there is no such delegated authority, the reports are sent directly to the EPA regional office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 2,189 (rounded) hours per response. Burden means the total time, effort, or financial resources expended by persons to generate, maintain, retain, or disclose or provide information to or for a Federal agency. This includes the time needed to review instructions; to develop, acquire, install, and utilize technology and systems for the purposes of collecting, validating, and verifying information, processing and maintaining information, and disclosing and providing information; to adjust the existing ways to comply with any previously applicable instructions and requirements; to train personnel to be able to respond to a collection of information; to search data sources; complete and review the collection of information; and to transmit or otherwise disclose the information.

Respondents/Affected Entities: Owner/operators of new or existing primary aluminum reduction plants.

Estimated Number of Respondents: 23.

Frequency of Response: Initially, quarterly, semiannually, on occasion.

Estimated Total Annual Hour Burden: 122,607 hours.

Estimated Total Annual Costs: $7,870,195, which accounts for annual O&M costs of $114,000, no capital/startup costs, and Respondent Labor costs of $7,756,195.

Changes in the Estimates: There is an increase of 1,330 hours in the total estimated burden currently identified in the OMB Inventory of Approved ICR Burden. This increase was due to an increase in the number of responses.

Dated: July 21, 2004.
Oscar Morales,
Director, Collection Strategies Division.

[FR Doc. 04-17307 Filed 7-28-04; 8:45 am]

BILLING CODE 6560-50-P